DEPARTMENT OF ENERGY

Federal Energy Regulatory Commission

[Docket No. CP05-394-000]

Wisconsin Power and Light Company; Notice of Filing

July 29, 2005.

Take notice that on July 22, 2005, Wisconsin Power and Light Company (WPL) filed, pursuant to section 284.224 of the Commission's Regulations, an application for a blanket certificate of public convenience and necessity authorizing it to transport natural gas in interstate commerce to the same extent and in the same manner that intrastate pipelines are authorized to engage in such activities pursuant to subpart C of part 284 of the Commission's Regulations. WPL maintains that the issuance of a blanket certificate will serve the public convenience and necessity by permitting WPL to provide interstate transportation services on behalf of South Beloit Water, Gas and Electric Company, a local distribution company that serves the natural gas market in and around South Beloit, Illinois, as well as other shippers desiring such service, without otherwise subjecting WPL to the Commission's Natural Gas Act jurisdiction.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time August 19, 2005.

Magalie R. Salas,
Secretary.

[FR Doc. E5-4158 Filed 8-2-05; 8:45 am]

BILLING CODE 6717-01-P